ENVIRONMENTAL PROTECTION AGENCY

[ER-FRL-6688-6]

Environmental Impact Statements; Notice of Availability

Responsible Agency: Office of Federal Activities, General Information (202) 564-7167 or http://www.epa.gov/compliance/nepa/.

Weekly receipt of Environmental Impact Statements

Filed 06/25/2007 Through 06/29/2007

Pursuant to 40 CFR 1506.9.

EIS No. 20070265, Final EIS, AFS, CA, Pilgrim Vegetation Management Project, Proposed Restoration of Forest Health and Ecosystem, Implementation, Shasta-Trinity National Forest, Siskiyou County, CA, Wait Period Ends: 08/06/2007. Contact: Dennis Poehlmann 530-926-9656. This document is available on the Internet at: http://www.fs.fed.us/r5/shastatrinity/projects/smmu-projects.shtml.

EIS No. 20070266, Draft EIS, SFW, 00, Lake Umbagog National Wildlife Refuge, Comprehensive Conservation Plan, 15 Year Guidance for Management of Refuge Operations, Habitat and Visitor Services, Implementation, Coos County, NH and Oxford County, ME. Comment Period Ends: 08/20/2007. Contact: Nancy McGarigal 413-253-8562.

EIS No. 20070267, Second Draft Supplement, COE, FL, Lake Okeechobee Regulation Schedule Study, New Updated Information, Evaluation of Three New Alternatives on Operational Changes to the Current Water Control Plan, Lake Okeechobee and the Everglades Agricultural Area, Lake Okeechobee, Glades, Okeechobee Hendry, Palm Beach and Martin Counties, FL. Comment Period Ends: 08/20/2007. Contact: Yvonne L. Haberer 904-232-1701.

EIS No. 20070268, Final EIS, GSA, VT, U.S. Commercial Port of Entry, Replacing existing Station at Route I-91, Design and Construction, Derby Line, Vermont. Wait Period Ends: 08/06/2007. Contact: Glenn C. Rotondo 617-565-5694.

EIS No. 20070269, Draft EIS, IBR, CA, Lower Yuba River Accord, Proposal to Resolve Instream Flow Issues Associated with Operation, Yuba River, Yuba County, CA. Comment Period Ends: 08/24/2007. Contact: Tamara LaFramboise 916-978-5269.

EIS No. 20070270, Draft EIS, NRC, MD, License Renewal of the National Bureau of Standards Reactor (NBSR), Renew the Operating License for an Addditional 20 Years, National Institute of Standards and Technology (NIST), NUREG-1873, Montgomery County, MD. Comment Period Ends: 09/05/2007. Contact: Dennis Beissel 301-415-2145.

EIS No. 20070271, Final EIS, AFS, WI, Fishbone Project Area, Vegetation and Road Management, Implementation, Washburn Ranger District, Chequamegon-Nicolet National Forest, Bayfield County, WI. Wait Period Ends: 08/06/2007. Contact: Jennifer Maziasz 715-373-2267 Ext 235.

EIS No. 20070272, Draft EIS, STB, UT, Central Utah Rail Project, Six Counties Association of Governments, Construction and Operation Exemption Rail Line between Levan and Salina, Right-of-Way Application, Docket No. FD 34075, Sanpete, Sevier, Juab Counties, UT. Comment Period Ends: 08/22/2007. Contact: Phillis Johnson-Ball 202-245-0304.

EIS No. 20070273, Draft Supplement, MMS, 00, Eastern Planning Area Outer Continental Shelf (OCS) Oil and Gas Lease Sale 224, Gulf of Mexico Offshore Marine Environment and Coastal Marshes/Counties of LA, MS, AL, and North Western Florida. Comment Period Ends: 08/20/2007. Contact: Dr. Sally Valdes 703-787-1707.

EIS No. 20070274, Draft EIS, COE, MD, Atlantic Coast of Maryland Shoreline Protection Project, Proposed Dredging of Several New Offshore Shoals to Provide Sand for Borrow Sources from 2010 to 2044, Ocean City, Worcester County, MD. Comment Period Ends: 08/28/2007. Contact: Christopher Spaur 410-962-6134.

EIS No. 20070275, Draft EIS, FHW, CA, Eureka-Arcata Route 101 Corridor Improvement Project, Proposed Roadway Improvements on Route 101 between the Eureka Slough Bridge and 11th St. Overcrossing in Arcata, Humbolt County, CA. Comment Period Ends: 08/24/2007. Contact: Lanh Phan 916-498-5046.

EIS No. 20070276, Draft Supplement, COE, MS, Pascagoula Harbor Navigation Channel Project, To Construct Congressionally Authorized Widening and Deepening Improvements, To Update the FEIS-1985, Jackson County, MS. Comment Period Ends: 08/20/2007. Contact: Jenny L. Jackson 251-690-2724.

EIS No. 20070277, Draft EIS, CGD, AL, Bienville Offshore Energy Terminal Deepwater Port License Application, Proposes to Construct and Operate a Liquefied Natural Gas Receiving and Regasification Facility, Outer Continental Shelf of the Gulf of Mexico, South of Fort Morgan, AL. Comment Period Ends: 08/20/2007. Contact: Mary Jager 202-372-1454.

EIS No. 20070278, Draft EIS, FHW, CA, Tier 1—Placer Parkway Corridor Preservation Project, Select and Preserve a Corridor for the Future Construction from CA-70/99 to CA 65, Placer and Sutter Counties, CA. Comment Period Ends: 08/20/2007. Contact: Cesar Perez 916-498-5065.

EIS No. 20070279, Final EIS, AFS, WA, White Pass Expansion Master Development Plan, Implementation, Naches Ranger District, Okanogan-Wenatchee National Forests and Cowlitz Valley Ranger District, Gifford Pinchot National Forest, Yakima and Lewis Counties, WA. Wait Period Ends: 08/06/2007. Contact: Randy Shepard 509-653-1446.

EIS No. 20070280, Final EIS, USA, VA, Fort Belvoir 2005 Base Realignment and Closure (BRAC). Recommendations and Related Army Actions, Implementation, Fairfax County, VA. Wait Period Ends: 08/06/2007. Contact: Bob Ross 703-602-2878.

Dated: July 2, 2007.
Robert W. Hargrove,
Director, NEPA Compliance Division, Office of Federal Activities.

[FR Doc. E7-13095 Filed 7-5-07; 8:45 am]

BILLING CODE 6560-50-P